DEPARTMENT OF AGRICULTURE

Forest Service

Notice of Proposed New Recreation Fee Sites; Federal Lands Recreation Enhancement Act, (Title VIII, Pub. L. 108-447)

AGENCY: Shawnee National Forest, USDA Forest Service.

ACTION: Notice of Proposed New Fee Sites and Recreation Facilities Modifications.

SUMMARY: The Shawnee National Forest is proposing to begin charging fees at eight day-use recreation sites, as well as for equestrian use of the designated trail system. Additionally, the Forest proposes to increase fees at five campgrounds. The proposed fees are based on the level of amenities and services provided, cost of operation and maintenance and market assessment. At this time, the fees described below are only proposed and may be modified upon further analysis and public comment. Funds from fees would be used for the continued operation and maintenance of recreation sites and the Forest's designated equestrian trail system. The establishment of fees at certain types of recreation sites on national forests is authorized by the Federal Lands Recreation Enhancement Act which was signed into law by President Bush in December 2004.

In addition to the new fees and the fee increases, the Shawnee National Forest is proposing to increase the cost effectiveness of some recreation facilities by removing amenities at these sites.

Proposed Day-Use Fees

Day-use fees of $5.00 per car are being considered for the Garden of the Gods interpretive and picnic sites, Pounds Hollow picnic and beach area, Bell Smith Springs interpretive and picnic areas, Lincoln Memorial at Jonesboro, Johnson Creek picnic and beach area, the Johnson Creek Boat Launch and the Little Grand Canyon Trailhead. An occupant of each car entering the parking areas of these sites would be expected to self-pay using a fee envelope provided at the site. Day-use fees of $5.00 per boat are being proposed for use of the Buttermilk Hill Picnic Site. At Buttermilk Hill an occupant of each boat would be expected to self-pay using a fee envelope provided at the site. Fees collected at these areas would be used for the maintenance and upkeep of the facilities.

Proposed Trail Use Permits for Equestrians

The Shawnee National Forest also proposes to establish a trail permit fee of $5.00 per day ($50.00 per year) for equestrians to use designated national forest trails. In areas where cross country riding is authorized, and on national forest roads, riding would remain free. Permits would be available from Shawnee National Forest Offices and from cooperating vendors. Permits would be issued to individuals and would not be transferable. No permit would be required for persons under 16 years of age. Fees collected for equestrian use of trails would be used for the maintenance, construction or enhancement of equestrian trails and trailhead facilities.

Annual Passes for Day Use Facilities and Equestrian Trails

An Annual Pass will be available for frequent visitors or those who wish to recreate for longer periods of time on the Shawnee. A Shawnee National Forest Annual Pass will be available at Shawnee National Forest offices for $50.00 and will admit one vehicle into day-use fee areas at the Pounds Hollow Recreation Area, Garden of the Gods Recreation Area, Bell Smith Springs, Johnson Creek Recreation Area, Lincoln Memorial and the Little Grand Canyon Trailhead for an unlimited number of visits for one year from the date of purchase. A Shawnee National Forest Annual Equestrian Trail Permit will be available for $50.00 at Shawnee National Forest offices or at participating vendors and would authorize use of one horse or mule on designated trails that are open to equestrian use for one year from the date of purchase.

Proposed Fee Increases for Shawnee National Forest Campgrounds

The Shawnee National Forest proposes to increase fees at five campgrounds. A campsite at Pharaoh Campground at Garden of the Gods fees would increase from $5.00 to $12.00 per night with the fee also covering day-use of Pharaoh Picnic Area and the Garden of the Gods Interpretive Site. Fees at Camp Cadiz would be raised from $5.00 to $10.00 per night. Fees at Pine Ridge Campground at the Pounds Hollow Recreation Area would increase from $5.00 to $12.00 per night and would include use of the Pounds Hollow Picnic and Beach day-use sites. Fees at Pine Hills Campground would increase from $5.00 to $10.00 per night. Fees at the Johnson Creek Group Campground would increase from $5.00 to $12.00 for a single site, $9.00 to $15.00 for a double site and $15.00 to $20.00 for a triple site. The fees at the Johnson Creek Group Campground would also include the use of the Johnson Creek boat launch, picnic and beach day-use sites.

Proposed Modification of Shawnee National Forest Recreation Facilities

The Shawnee National Forest proposes to increase the cost effectiveness of developed recreation facilities management by reducing services at some locations where use continues to be light. The following actions are being considered: Removal of the tables, fire rings and toilets from the Johnson Creek Single Family Campground (the Group Campground will remain open), removal of one picnic shelter from the Johnson Creek Picnic Area, removal of tables, fire rings and toilets from two of four loops of Pine Ridge Campground at the Pounds Hollow Recreation Area, removal of the water system at Tower Rock Campground and removal of the tables and grills at the Tower Rock Picnic Site, and removal of tables, fire rings, toilets and water tanks from the Buck Ridge Campground at Lake of Egypt. Fees will no longer be required for the use of the Tower Rock Campground. The boat launches at Tower Rock and at Hickory Point on Lake of Egypt would remain open and free to the public. Additionally, the boardwalk and other facilities at the Oakwood Bottoms Green-Tree Reservoir site, and the picnic and interpretive shelters at Illinois Iron Furnace picnic site would not be replaced when they have reached the end of their serviceability. The toilet at Teal Pond would be removed without replacement.

DATES: New fees may begin as early as April 2008. Modifications to facilities may begin as soon as June of 2008.

The Shawnee National Forest will host open-house meetings to explain the fee and facility proposals or to discuss other items of interest related to the Federal Lands Recreation Enhancement Act of 2004. The meetings will be open to the public. Meetings will be held on Tuesday, November 6, 2007 from 4 to 7 p.m. at the Vienna High School, 601 N. 1st Street, Vienna, Illinois; on Wednesday, November 7, 2007 from 4 to 7 p.m. at the Knights of Columbus Hall, 100 Columbus Drive, Marion, Illinois; and on Wednesday, November 14, 2007 from 4 to 7 p.m. at the Davis-McCann Center, 15 North 14th Street, Murphysboro, Illinois.

ADDRESSES: Comments and recommendations regarding the Shawnee National Forest's recreation fee and/or facilities proposals can be sent to Hurston A. Nicholas, Forest Supervisor, Shawnee National Forest, 50 Highway 145 South, Harrisburg, IL 62946. Comments or recommendations concerning these recreation fee proposals should be submitted prior to mid April 2008 in order to be considered. You can e-mail your comments using the “Contact Us” link on the Shawnee National Forest Web site at: http://www.fs.fed.us/r9/forests/shawnee/.

FOR FURTHER INFORMATION CONTACT: Tim Pohlman, Recreation Program Manager, 618-253-7114. Information about proposed fee changes can also be found on the Shawnee National Forest Web site at: http://www.fs.fed.us/r9/forests/shawnee/passes/.

SUPPLEMENTARY INFORMATION: The Federal Recreation Lands Enhancement Act (Title VII, Pub. L. 108-447) directed the Secretary of Agriculture to publish a six month advance notice in the Federal Register whenever new recreation fee areas are established. Additionally, the Act stipulates that the establishment of new fees or the modification of existing fees must be reviewed by a Recreation Resource Advisory Committee (RRAC) prior to their implementation. Once public recommendations and comments have been gathered, these fee proposals, along with any modifications resulting from public comments, will be submitted for review by the RRAC.

Dated: October 9, 2007.
Hurston A. Nicholas,
Forest Supervisor.

[FR Doc. E7-20232 Filed 10-12-07; 8:45 am]

BILLING CODE 3410-11-P